DEPARTMENT OF AGRICULTURE

Forest Service

Notice of Proposed New Fee Sites

AGENCY: Forest Service, Agriculture (USDA).

ACTION: Notice of proposed new fee sites.

SUMMARY: The Stanislaus National Forest is proposing to charge new fees at nine recreation sites and proposing one recreation permit listed in SUPPLEMENTARY INFORMATION of this notice. Funds from fees/permit would be used for operation, maintenance, and improvements of these recreation sites. An analysis of nearby developed recreation sites with similar amenities shows the proposed fees are reasonable and typical of similar sites in the area.

DATES: If approved, the new fees/permit would be implemented no earlier than six months following the publication of this notice in the Federal Register.

ADDRESSES: Stanislaus National Forest, 19777 Greenley Road, Sonora, CA 95370.

FOR FURTHER INFORMATION CONTACT: Casey Jardine, Public Service Staff Officer, 209-813-6011 or casey.jardine@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Hermit Valley and Black Springs off-highway vehicle campgrounds are proposed at $20 per night. The Herring Creek and Herring Reservoir campgrounds are proposed at $25 per night. A $20 fee per tree for a Christmas tree permit is proposed. A $5 day-use fee per vehicle and a $30 annual pass is proposed at Sourgrass, Rainbow Pool, Carlon Day, and Beardsley day use sites and Union East Boat Ramp. The full suite of Interagency passes would be honored.

New fees would provide increased visitor opportunities as well as increased staffing to address operations and maintenance needs and enhance customer service. Once public involvement is complete, these new fees will be reviewed by a Recreation Resource Advisory Committee prior to a final decision and implementation.

Dated: December 27, 2021.
Sandra Watts,
Acting Associate Deputy Chief, National Forest System.

[FR Doc. 2021-28394 Filed 12-30-21; 8:45 am]

BILLING CODE 3411-15-P